SMALL BUSINESS ADMINISTRATION

Region 1—Maine District Advisory Council; Public Meeting

The U.S. Small Business Administration Region 1 Advisory Council, located in the geographical area of Augusta, Maine will be hosting a public meeting on Tuesday, October 19, 2004, at 10 a.m. The meeting will be held at the U.S. Small Business Administration, Maine District Office, 68 Sewall Street, Room 510, Augusta, Maine, to discuss such matters as may be presented by members, staff of the U.S. Small Business Administration, or others present.

If you have any questions or concerns regarding this meeting, please write or contact Mary McAleney, District Director, U.S. Small Business Administration, 68 Sewall Street, Room 512, Augusta, Maine 04330, (207) 622-8386 phone, (207) 622-8277 fax.

Matthew K. Becker,
Committee Management Officer.

[FR Doc. 04-19798 Filed 8-31-04; 8:45 am]

BILLING CODE 8025-01-P